DEPARTMENT OF HOMELAND SECURITY

Coast Guard

33 CFR Part 165

[COTP Savannah-04-040]

RIN 1625-AA00, AA11

Security Zones and Regulated Navigation Area; Savannah River, GA

AGENCY: Coast Guard, DHS.

ACTION: Temporary final rule.

SUMMARY: The Coast Guard is establishing temporary security zones and a temporary regulated navigation area, from June 5, 2004, through June 11, 2004, for the G-8 Summit to be held in Sea Island, Georgia. These rules are required to provide for the security of the public, the G-8 Summit and its participants, and the safety of the waterways due to the potential for hostile and violent acts from demonstrators protesting the G-8. These temporary security zones prohibit the entry of all vessels and persons into all waters of the Savannah River from Port Wentworth south, including the Back River, the Elba Island South Channel, and the Intracoastal Waterway Alternate Route in the vicinity of St. Augustine Creek, to the boundary of the temporary regulated navigation area that is located in the vicinity of the south east tip of Elba Island at the western portion of the Lower Flats Range. The temporary regulated navigation area controls the movement of all vessels operating on the Intracoastal Waterway in the vicinity of Fields Cut and south through Elba Island Cut to St. Augustine Creek.

DATES: This rule is effective from 8 a.m. on June 5, 2004 until 4 p.m. on June 11, 2004.

ADDRESSES: Comments and material received from the public, as well as documents indicated in this preamble as being available in the docket, are part of docket [COTP Savannah 04-040] and are available for inspection or copying at Marine Safety Office Savannah, 100 W. Oglethorpe Ave., Suite 1017, Savannah, Georgia 31401 between 8 a.m. and 4 p.m., Monday through Friday, except Federal holidays.

FOR FURTHER INFORMATION CONTACT: LTJG Anthony Quirino, Coast Guard Marine Safety Office Savannah, (912) 652-4353, ext 235.

SUPPLEMENTARY INFORMATION:

Regulatory Information

On April 8, 2004, we published a notice of proposed rulemaking (NPRM) entitled Security Zones and Regulated Navigation Areas; Savannah River, GA in the Federal Register (69 FR 18797). We received one letter commenting on the proposed rule. No public hearing was requested, and none was held.

Under 5 U.S.C. 553(d)(3), the Coast Guard finds that good cause exists for making this rule effective less than 30 days after publication in the Federal Register. This rule is needed to provide for the security of the public, the G-8 Summit and its participants, and the safety of the waterways due to the potential for hostile and violent acts from demonstrators protesting the G-8. Law enforcement officials require sufficient time to put security measures in place for the start of the G-8 summit on June 8th. Therefore, it is in the public interest to have these regulations effective less than 30 days after publication in the Federal Register.

Background and Purpose

The G8 (Group of 8) is an informal group of eight countries—Canada, France, Germany, Italy, Japan, Russia, the United Kingdom and the United States—whose leaders meet to discuss broad economic and foreign policies. The 30th G8 summit will be held in Sea Island, Georgia, from June 8 through June 10, 2004.

Cities that have recently hosted conferences or summits similar to the G-8 Summit have experienced significant property damage, and their law enforcement officers and public citizens have sustained personal injuries from a segment of protestors engaged in violent demonstrations against those summits and their agendas. Examples include the September 2003 World Trade Organization (WTO) Ministerial in Cancun, Mexico; the 2003 G-8 Summit in Calgary, Canada, the 2001 G-8 Summit in Genoa, Italy; and the 1999 World Trade Organization in Seattle, Washington. These conferences and summits experienced an influx of protestors, and in particular protest groups opposing international trade who have a propensity for violence and a desire to engage in hostile acts against, among others, summit attendees, conference venues, the general public, business and municipal buildings, and law enforcement officials. Information and intelligence indicates that there is potential for similar acts to be attempted during the upcoming June G-8 Summit in Savannah, Georgia.

This history has heightened the need for the development and implementation of various security measures in the vicinity of the Savannah River, particularly around venue areas established for the dignitaries and official parties attending the G-8 Summit, critical port facilities and infrastructure, bridges, and the navigable waterways. The Coast Guard has determined from information provided by local, state, and federal law enforcement officials that vessels or persons in close proximity to the G-8 Summit may launch hostile or violent acts from the waterways adjacent to the Summit and from the waterways adjacent to where Summit attendees are staying. The potential for these acts poses a security threat to the public, the G-8 Summit and its participants, and the flow of commerce on the navigable waterways.

The temporary security zones and temporary regulated navigation area (RNA) are necessary to mitigate these threats and protect the public, the G-8 Summit attendees, law enforcement officers, and the flow of commerce on the waterways from persons attempting hostile and violent acts.

The temporary security zones and temporary regulated navigation area are being established to mitigate these threats and are necessary to protect the public, the G-8 conference and attendees, law enforcement officers, the Port of Savannah and commerce within the port from persons attempting hostile and violent acts.

Please note that elsewhere in today's Federal Register, we have published another final rule, entitled “Security Zone, St. Simons Sound and the Atlantic Ocean, GA” that is also intended to provide security of the public, the G-8 Summit and its participants, and the safety of the waterways during this same period—June 5, 2004, until 4 p.m. on June 11, 2004.

Discussion of Comments and Changes

We received one letter offering support of the rule and the increased security and protection that it provides. The Coast Guard agrees with this comment and no changes to the final rule were made.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. Although the security zone applies to a large section of the Savannah River, traffic will be allowed to pass through the zone with the permission of the Captain of the Port of Savannah or his designated representatives. Before the effective period, we will issue maritime advisories widely available to users of the river.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. We did not receive any comments from small entities or other information following our (NPRM) on April 8, 2004 (69 FR 18797) stating that this rule would have a significant economic impact on them.

Assistance for Small Entities

Under section 213(a) of the Small Business Regulatory Enforcement Fairness Act of 1996 (Pub. L. 104-121), we offered to assist small entities in understanding this rule so that they could better evaluate its effects on them and participate in the rulemaking process. Small businesses may send comments on the actions of Federal employees who enforce, or otherwise determine compliance with, federal regulations to the Small Business and Agriculture Regulatory Enforcement Ombudsman and the Regional Small Business Regulatory Fairness Boards. The Ombudsman evaluates these actions annually and rates each agency's responsiveness to small business. If you wish to comment on the actions by employees of the Coast Guard, call 1-800-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not economically significant and does not create environmental risks to health or risks to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated them as a significant energy action. Therefore, they do not require a Statement of Energy Effects under Executive Order 13211.

Environment

We have analyzed these rules under Commandant Instruction M16475.lD, which guides the Coast Guard in complying with the National Environmental Policy Act of 1969 (NEPA)(42 U.S.C. 4321-4370f), and have concluded that there are no factors in this case that would limit the use of a categorical exclusion under section 2.B.2 of the Instruction. Therefore, these rules are categorically excluded, under figure 2-1, paragraph (34)(g), of the Instruction, from further environmental documentation.

List of Subjects in 33 CFR Part 165

Harbors, Marine safety, Navigation (water), Reporting and recordkeeping requirements, Security measures, Waterways.

For the reasons discussed in the preamble, the Coast Guard amends 33 Part 165 as follows:

PART 165—REGULATED NAVIGATION AREAS AND LIMITED ACCESS AREAS

1. The authority citation for part 165 continues to read as follows:

Authority: 33 U.S.C. 1226, 1231; 50 U.S.C. 191, 195; 46 U.S.C. Chapter 701; 33 CFR 1.05-1(g), 6.04-1, 6.04-6, and 160.5; Pub. L. 107-295, 116 Stat. 2064; Department of Homeland Security Delegation No. 0170.1.

2. From 8 a.m. on June 5, 2004, until 4 p.m. on June 11, 2004 add a new temporary § 165.T07-040 to read as follows:

§ 165.T07-040 Temporary Security Zones and Temporary Regulated Navigation Area, Savannah River, GA

(a) Locations—

(1) Security Zone, Savannah River. An imaginary line starting at Channel Light 22, (Light List Volume III, Number 5090), at the intersection of the Middle River and the Savannah River and crossing due West over the Savannah River to Port Wentworth at approximate point 32°08′47″ N, 081°06′36″W; then all waters of the Savannah River from shore to shore and surface to bottom south and east of this imaginary line downriver to an imaginary line starting at the south east tip of Elba Island at approximate point 32°04′19″ N, 080°58′27″ W and extending due north across the Savannah River and through Red Buoy #36 to approximate point 32°0′40″ N, 080°58′19″ W. All coordinates are based upon North American Datum 83 (NAD 83).

(2) Security Zone, Back River. All waters of the Back River south and east of the Highway 17 bridge from shore to shore and surface to bottom easterly to where the Back River meets the Savannah River.

(3) Security Zone, South Channel Elba Island. All waters of the South Channel south of Elba Island, from shore to shore and surface to bottom, from the intersection of the Savannah River and the South Channel and continuing south easterly to an imaginary line starting at the south east tip of Elba Island at approximate point 32°04′19″ N, 080°58′27″ W and extending south westerly following the northern edge of Elba Island Cut channel to the north east tip of McQueen Island at approximate position 32°04′08″ N, 080°58′55″ W. All coordinates are based upon North American Datum 83 (NAD 83).

(4) Security Zone, Intracoastal Waterway Alternate Route. All waters of the Intracoastal Waterway Alternate Route from shore to shore and surface to bottom from St. Augustine Creek Day Beacon A18 (Light List, Vol. III, no. 35960) to Day Beacon A12 (Light List, Vol. III, no. 35945).

(5) Regulated navigation area; Intracoastal Waterway Fields Cut, Savannah River, and St. Augustine Creek. All waters of the Intracoastal Waterway from shore to shore and surface to bottom from Fields Cut Buoy 48 (Light List, Vol. III, no. 35865) at Wright River south and west to the Savannah River, and including all waters of the Savannah River in the vicinity of Lower Flats Range, from shore to shore and surface to bottom, southeast of an imaginary line starting at the south east tip of Elba Island at approximate point 32°04′19″ N, 080°58′27″ W and extending due north across the Savannah River and through Red Buoy #36 to approximate point 32°04′40″ N, 080°58′19″ W to an imaginary line starting at the western tip of Jones Island at the intersection of the Intracoastal Waterway and extending southwesterly across the Savannah River intersecting through Green buoy “35” to Bird Island at approximate point 32°04′15″ N, 080°58′00″ W, and continuing south and west and including all waters of Elba Island Cut and the Intracoastal waterway, from shore to shore and surface to bottom, to Elba Island Cut Light 10 (Light List, Vol. III no. 35900) at St. Augustine Creek. All coordinates are based upon North American Datum 83 (NAD 83).

(b) Definitions.

The following definitions apply to this section:

Designated Representatives means Coast Guard Patrol Commanders including Coast Guard coxswains, petty officers and other officers operating Coast Guard vessels, and federal, state, and local officers designated by or assisting the Captain of the Port of Savannah, to regulate the movement of vessels within the RNA and restrict vessels and persons from entering the security zones.

Slow speed means the speed at which a vessel proceeds when it is fully off plane, completely settled in the water and not creating excessive wake. Due to the different speeds at which vessels of different sizes and configurations may travel while in compliance with this definition, no specific speed is assigned to slow speed. In no instance should slow speed be interpreted as a speed less than that required to maintain steerageway. A vessel is not proceeding at slow speed if it is:

(1) On a plane;

(2) In the process of coming up onto or coming off a plane; or

(3) Creating an excessive wake.

(c) Regulations—

(1) Security Zones. The regulations in this paragraph apply to the zones in paragraph (a)(1) through (a)(4) of this section. Entry into or remaining within the security zones by vessels or persons is prohibited unless authorized by the Coast Guard Captain of the Port, Savannah, Georgia or that officer's designated representatives. Vessels moored, docked or anchored in the security zones when they become effective must remain in place unless ordered by or given permission from the COTP to do otherwise. Vessels or persons desiring to enter or transit the areas encompassed by the security zones may contact the Coast Guard on VHF Channel Marine 16 or at (912) 652-4353 to seek permission to enter or transit the area. If permission is granted, all persons and vessels must comply with the instructions of the Captain of the Port or that officer's designated representatives.

(2) Regulated Navigation Area. The regulations in this paragraph apply to the area in paragraph (a)(5) of this section.

(i) All vessels and persons entering and transiting through the regulated navigation area shall proceed continuously and at a slow speed. In no instance should slow speed be interpreted as a speed less than that required to maintain steerageway. Nothing in this rule alleviates vessels or operators from complying with all state and local laws in the area.

(ii) All vessels and persons shall comply with orders from the Coast Guard Captain of the Port of Savannah or that officer's designated representatives, regulating their speed, course, direction and movements within the RNA.

All vessels and persons shall obtain the permission of the Captain of the Port or that officer's designated representatives prior to entering or transiting via VHF Channel 16.

(d) Effective period: This section is effective from 8 a.m. on June 5, 2004 until 4 p.m. on June 11, 2004.

Dated: May 17, 2004.
Harvey E. Johnson, Jr.,
Rear Admiral, U.S. Coast Guard, Commander, Seventh Coast Guard District.

[FR Doc. 04-11887 Filed 5-21-04; 12:12 pm]

BILLING CODE 4910-15-P